DEPARTMENT OF DEFENSE

Office of the Secretary

Revised Non-Foreign Overseas Per Diem Rates

AGENCY: Defense Human Resources Activity, Policy and Regulations Branch, Defense Travel Management Office, DoD.

ACTION: Notice of revised per diem rates in non-foreign areas outside the contiguous U.S.

SUMMARY: The Defense Travel Management Office publishes this Civilian Personnel Per Diem Bulletin Number 309. Bulletin Number 309 lists current per diem rates prescribed for reimbursement of subsistence expenses while on official Government travel to Alaska, Hawaii, the Commonwealth of Puerto Rico, and the possessions of the United States. The Fiscal Year (FY) 2019 per diem rate review for Alaska resulted in lodging and meal rate changes in certain locations.

DATES: Effective Date: June 1, 2019.

FOR FURTHER INFORMATION CONTACT: Mr. Scott Laws, 571-372-1282.

SUPPLEMENTARY INFORMATION: This notice notifies the public of revisions in per diem rates prescribed by the Defense Travel Management Office for travel to non-foreign areas outside the contiguous United States. The FY 2019 per diem rate review for Alaska resulted in lodging, meal and incidental rate changes in certain locations. Bulletin Number 309 is published in the Federal Register to ensure that Government travelers outside the Department of Defense are notified of revisions to the current reimbursement rates.

If you believe the lodging, meal or incidental allowance rate for a locality listed in the following table is insufficient, you may request a rate review for that location. For more information about how to request a review, please see DTMO's Per Diem Rate Review Frequently Asked Questions (FAQ) page at https://www.defensetravel.dod.mil/site/faqraterev.cfm.

Dated: May 17, 2019.
Aaron T. Siegel,
Alternate OSD Federal Register Liaison Officer, Department of Defense.

State or territory | Locality | Season start | Season end | Lodging | M&IE | Total per diem | Effective date
ALASKA | [OTHER] | 01/01 | 12/31 | 161 | 113 | 274 | 06/01/2019
ALASKA | ADAK | 01/01 | 12/31 | 161 | 117 | 278 | 06/01/2019
ALASKA | ANCHORAGE [INCL NAV RES] | 05/01 | 08/31 | 229 | 125 | 354 | 06/01/2019
ALASKA | ANCHORAGE [INCL NAV RES] | 09/01 | 04/30 | 199 | 125 | 324 | 06/01/2019
ALASKA | BARROW | 05/15 | 09/14 | 320 | 129 | 449 | 06/01/2019
ALASKA | BARROW | 09/15 | 05/14 | 265 | 129 | 394 | 06/01/2019
ALASKA | BARTER ISLAND LRRS | 01/01 | 12/31 | 161 | 113 | 274 | 06/01/2019
ALASKA | BETHEL | 01/01 | 12/31 | 219 | 101 | 320 | 06/01/2019
ALASKA | BETTLES | 01/01 | 12/31 | 161 | 113 | * 274 | 06/01/2019
ALASKA | CAPE LISBURNE LRRS | 01/01 | 12/31 | 161 | 113 | 274 | 06/01/2019
ALASKA | CAPE NEWENHAM LRRS | 01/01 | 12/31 | 161 | 113 | 274 | 06/01/2019
ALASKA | CAPE ROMANZOF LRRS | 01/01 | 12/31 | 161 | 113 | 274 | 06/01/2019
ALASKA | CLEAR AB | 01/01 | 12/31 | 161 | 113 | 274 | 06/01/2019
ALASKA | COLD BAY | 01/01 | 12/31 | 161 | 113 | 274 | 06/01/2019
ALASKA | COLD BAY LRRS | 01/01 | 12/31 | 161 | 113 | 274 | 06/01/2019
ALASKA | COLDFOOT | 01/01 | 12/31 | 161 | 93 | 254 | 06/01/2019
ALASKA | COPPER CENTER | 01/01 | 12/31 | 161 | 115 | 276 | 06/01/2019
ALASKA | CORDOVA | 01/01 | 12/31 | 140 | 106 | 246 | 06/01/2019
ALASKA | CRAIG | 05/01 | 09/30 | 139 | 94 | 233 | 06/01/2019
ALASKA | CRAIG | 10/01 | 04/30 | 109 | 94 | 203 | 06/01/2019
ALASKA | DEADHORSE | 01/01 | 12/31 | 120 | 113 | * 233 | 06/01/2019
ALASKA | DELTA JUNCTION | 01/01 | 12/31 | 161 | 101 | 262 | 06/01/2019
ALASKA | DENALI NATIONAL PARK | 05/17 | 09/17 | 189 | 98 | 287 | 06/01/2019
ALASKA | DENALI NATIONAL PARK | 09/18 | 05/16 | 139 | 98 | 237 | 06/01/2019
ALASKA | DILLINGHAM | 05/01 | 09/30 | 275 | 113 | 388 | 06/01/2019
ALASKA | DILLINGHAM | 10/01 | 04/30 | 230 | 113 | 343 | 06/01/2019
ALASKA | DUTCH HARBOR-UNALASKA | 01/01 | 12/31 | 161 | 129 | 290 | 06/01/2019
ALASKA | EARECKSON AIR STATION | 01/01 | 12/31 | 146 | 74 | 220 | 07/01/2016
ALASKA | EIELSON AFB | 05/16 | 09/15 | 154 | 100 | 254 | 06/01/2019
ALASKA | EIELSON AFB | 09/16 | 05/15 | 75 | 100 | 175 | 06/01/2019
ALASKA | ELFIN COVE | 01/01 | 12/31 | 161 | 113 | 274 | 06/01/2019
ALASKA | ELMENDORF AFB | 05/01 | 08/31 | 229 | 125 | 354 | 06/01/2019
ALASKA | ELMENDORF AFB | 09/01 | 04/30 | 199 | 125 | 324 | 06/01/2019
ALASKA | FAIRBANKS | 05/16 | 09/15 | 154 | 100 | 254 | 06/01/2019
ALASKA | FAIRBANKS | 09/16 | 05/15 | 75 | 100 | 175 | 06/01/2019
ALASKA | FORT YUKON LRRS | 01/01 | 12/31 | 161 | 113 | 274 | 06/01/2019
ALASKA | FT. GREELY | 01/01 | 12/31 | 161 | 101 | 262 | 06/01/2019
ALASKA | FT. RICHARDSON | 05/01 | 08/31 | 229 | 125 | 354 | 06/01/2019
ALASKA | FT. RICHARDSON | 09/01 | 04/30 | 199 | 125 | 324 | 06/01/2019
ALASKA | FT. WAINWRIGHT | 05/16 | 09/15 | 154 | 100 | 254 | 06/01/2019
ALASKA | FT. WAINWRIGHT | 09/16 | 05/15 | 75 | 100 | 175 | 06/01/2019
ALASKA | GAMBELL | 01/01 | 12/31 | 161 | 113 | 274 | 06/01/2019
ALASKA | GLENNALLEN | 01/01 | 12/31 | 161 | 115 | 276 | 06/01/2019
ALASKA | HAINES | 01/01 | 12/31 | 107 | 113 | 220 | 06/01/2019
ALASKA | HEALY | 06/01 | 08/31 | 189 | 98 | 287 | 06/01/2019
ALASKA | HEALY | 09/01 | 05/31 | 139 | 98 | 237 | 06/01/2019
ALASKA | HOMER | 05/01 | 09/30 | 189 | 124 | 313 | 06/01/2019
ALASKA | HOMER | 10/01 | 04/30 | 129 | 124 | 253 | 06/01/2019
ALASKA | JB ELMENDORF-RICHARDSON | 05/01 | 08/31 | 229 | 125 | 354 | 06/01/2019
ALASKA | JB ELMENDORF-RICHARDSON | 09/01 | 04/30 | 199 | 125 | 324 | 06/01/2019
ALASKA | JUNEAU | 04/16 | 09/15 | 189 | 118 | 307 | 06/01/2019
ALASKA | JUNEAU | 09/16 | 04/15 | 169 | 118 | 287 | 06/01/2019
ALASKA | KAKTOVIK | 01/01 | 12/31 | 161 | 129 | * 290 | 06/01/2019
ALASKA | KAVIK CAMP | 01/01 | 12/31 | 161 | 113 | * 274 | 06/01/2019
ALASKA | KENAI-SOLDOTNA | 05/01 | 09/30 | 159 | 113 | 272 | 06/01/2019
ALASKA | KENAI-SOLDOTNA | 10/01 | 04/30 | 89 | 113 | 202 | 06/01/2019
ALASKA | KENNICOTT | 01/01 | 12/31 | 161 | 85 | 246 | 06/01/2019
ALASKA | KETCHIKAN | 04/01 | 10/01 | 250 | 118 | 368 | 06/01/2019
ALASKA | KETCHIKAN | 10/02 | 03/31 | 160 | 118 | 278 | 06/01/2019
ALASKA | KING SALMON | 01/01 | 12/31 | 161 | 89 | 250 | 06/01/2019
ALASKA | KING SALMON LRRS | 01/01 | 12/31 | 161 | 113 | 274 | 06/01/2019
ALASKA | KLAWOCK | 05/01 | 09/30 | 139 | 94 | 233 | 06/01/2019
ALASKA | KLAWOCK | 10/01 | 04/30 | 109 | 94 | 203 | 06/01/2019
ALASKA | KODIAK | 05/01 | 09/30 | 194 | 109 | 303 | 06/01/2019
ALASKA | KODIAK | 10/01 | 04/30 | 136 | 109 | 245 | 06/01/2019
ALASKA | KOTZEBUE | 01/01 | 12/31 | 161 | 121 | 282 | 06/01/2019
ALASKA | KULIS AGS | 05/01 | 08/31 | 229 | 125 | 354 | 06/01/2019
ALASKA | KULIS AGS | 09/01 | 04/30 | 199 | 125 | 324 | 06/01/2019
ALASKA | MCCARTHY | 01/01 | 12/31 | 161 | 85 | 246 | 06/01/2019
ALASKA | MCGRATH | 01/01 | 12/31 | 161 | 113 | * 274 | 06/01/2019
ALASKA | MURPHY DOME | 05/16 | 09/15 | 154 | 100 | 254 | 06/01/2019
ALASKA | MURPHY DOME | 09/16 | 05/15 | 75 | 100 | 175 | 06/01/2019
ALASKA | NOME | 01/01 | 12/31 | 185 | 118 | 303 | 06/01/2019
ALASKA | NOSC ANCHORAGE | 05/01 | 08/31 | 229 | 125 | 354 | 06/01/2019
ALASKA | NOSC ANCHORAGE | 09/01 | 04/30 | 199 | 125 | 324 | 06/01/2019
ALASKA | NUIQSUT | 01/01 | 12/31 | 161 | 113 | * 274 | 06/01/2019
ALASKA | OLIKTOK LRRS | 01/01 | 12/31 | 161 | 113 | 274 | 06/01/2019
ALASKA | PALMER | 01/01 | 12/31 | 155 | 117 | 272 | 06/01/2019
ALASKA | PETERSBURG | 01/01 | 12/31 | 130 | 108 | 238 | 06/01/2019
ALASKA | POINT BARROW LRRS | 01/01 | 12/31 | 161 | 113 | 274 | 06/01/2019
ALASKA | POINT HOPE | 01/01 | 12/31 | 161 | 113 | * 274 | 06/01/2019
ALASKA | POINT LONELY LRRS | 01/01 | 12/31 | 161 | 113 | 274 | 06/01/2019
ALASKA | PORT ALEXANDER | 01/01 | 12/31 | 161 | 113 | * 274 | 06/01/2019
ALASKA | PORT ALSWORTH | 01/01 | 12/31 | 161 | 113 | 274 | 06/01/2019
ALASKA | PRUDHOE BAY | 01/01 | 12/31 | 120 | 113 | * 233 | 06/01/2019
ALASKA | SELDOVIA | 05/01 | 09/30 | 189 | 124 | 313 | 06/01/2019
ALASKA | SELDOVIA | 10/01 | 04/30 | 129 | 124 | 253 | 06/01/2019
ALASKA | SEWARD | 04/02 | 09/30 | 309 | 146 | 455 | 06/01/2019
ALASKA | SEWARD | 10/01 | 04/01 | 80 | 146 | 226 | 06/01/2019
ALASKA | SITKA-MT-EDGECUMBE | 04/01 | 09/30 | 245 | 116 | 361 | 06/01/2019
ALASKA | SITKA-MT-EDGECUMBE | 10/01 | 03/31 | 200 | 116 | 316 | 06/01/2019
ALASKA | SKAGWAY | 04/01 | 10/01 | 250 | 118 | 368 | 06/01/2019
ALASKA | SKAGWAY | 10/02 | 03/31 | 160 | 118 | 278 | 06/01/2019
ALASKA | SLANA | 01/01 | 12/31 | 161 | 113 | 274 | 06/01/2019
ALASKA | SPARREVOHN LRRS | 01/01 | 12/31 | 161 | 113 | 274 | 06/01/2019
ALASKA | SPRUCE CAPE | 05/01 | 09/30 | 194 | 109 | 303 | 06/01/2019
ALASKA | SPRUCE CAPE | 10/01 | 04/30 | 136 | 109 | 245 | 06/01/2019
ALASKA | ST. GEORGE | 01/01 | 12/31 | 161 | 113 | 274 | 06/01/2019
ALASKA | TALKEETNA | 01/01 | 12/31 | 161 | 120 | 281 | 06/01/2019
ALASKA | TANANA | 01/01 | 12/31 | 185 | 118 | 303 | 06/01/2019
ALASKA | TATALINA LRRS | 01/01 | 12/31 | 161 | 113 | 274 | 06/01/2019
ALASKA | TIN CITY LRRS | 01/01 | 12/31 | 161 | 113 | 274 | 06/01/2019
ALASKA | TOK | 04/01 | 09/30 | 105 | 113 | 218 | 06/01/2019
ALASKA | TOK | 10/01 | 03/31 | 99 | 113 | 212 | 06/01/2019
ALASKA | VALDEZ | 05/16 | 09/15 | 197 | 110 | 307 | 06/01/2019
ALASKA | VALDEZ | 09/16 | 05/15 | 179 | 110 | 289 | 06/01/2019
ALASKA | WAINWRIGHT | 01/01 | 12/31 | 275 | 77 | 352 | 06/01/2019
ALASKA | WAKE ISLAND DIVERT AIRFIELD | 01/01 | 12/31 | 161 | 113 | 274 | 06/01/2019
ALASKA | WASILLA | 05/01 | 09/29 | 162 | 94 | 256 | 06/01/2019
ALASKA | WASILLA | 09/30 | 04/30 | 98 | 94 | 192 | 06/01/2019
ALASKA | WRANGELL | 04/01 | 10/01 | 250 | 118 | 368 | 06/01/2019
ALASKA | WRANGELL | 10/02 | 03/31 | 160 | 118 | 278 | 06/01/2019
ALASKA | YAKUTAT | 01/01 | 12/31 | 150 | 111 | 261 | 06/01/2019
AMERICAN SAMOA | AMERICAN SAMOA | 01/01 | 12/31 | 139 | 77 | 216 | 11/01/2017
AMERICAN SAMOA | PAGO PAGO | 01/01 | 12/31 | 139 | 77 | 216 | 11/01/2017
GUAM | GUAM (INCL ALL MIL INSTAL) | 01/01 | 12/31 | 159 | 87 | 246 | 07/01/2015
GUAM | JOINT REGION MARIANAS (ANDERSEN) | 01/01 | 12/31 | 159 | 87 | 246 | 07/01/2015
GUAM | JOINT REGION MARIANAS (NAVAL BASE) | 01/01 | 12/31 | 159 | 87 | 246 | 07/01/2015
GUAM | TAMUNING | 01/01 | 12/31 | 159 | 87 | 246 | 12/01/2015
HAWAII | [OTHER] | 01/01 | 12/31 | 199 | 117 | 316 | 08/01/2017
HAWAII | CAMP H M SMITH | 01/01 | 12/31 | 177 | 138 | 315 | 08/01/2017
HAWAII | EASTPAC NAVAL COMP TELE AREA | 01/01 | 12/31 | 177 | 138 | 315 | 08/01/2017
HAWAII | FT. DERUSSEY | 01/01 | 12/31 | 177 | 138 | 315 | 08/01/2017
HAWAII | FT. SHAFTER | 01/01 | 12/31 | 177 | 138 | 315 | 08/01/2017
HAWAII | HICKAM AFB | 01/01 | 12/31 | 177 | 138 | 315 | 08/01/2017
HAWAII | HILO | 01/01 | 12/31 | 199 | 117 | 316 | 08/01/2017
HAWAII | HONOLULU | 01/01 | 12/31 | 177 | 138 | 315 | 08/01/2017
HAWAII | ISLE OF HAWAII: HILO | 01/01 | 12/31 | 199 | 117 | 316 | 08/01/2017
HAWAII | ISLE OF HAWAII: OTHER | 12/18 | 03/25 | 239 | 161 | 400 | 08/01/2017
HAWAII | ISLE OF HAWAII: OTHER | 03/26 | 12/17 | 189 | 161 | 350 | 08/01/2017
HAWAII | ISLE OF KAUAI | 01/01 | 12/31 | 325 | 135 | 460 | 04/01/2016
HAWAII | ISLE OF MAUI | 01/01 | 12/31 | 269 | 160 | 429 | 08/01/2017
HAWAII | ISLE OF OAHU | 01/01 | 12/31 | 177 | 138 | 315 | 08/01/2017
HAWAII | JB PEARL HARBOR-HICKAM | 01/01 | 12/31 | 177 | 138 | 315 | 08/01/2017
HAWAII | KAPOLEI | 01/01 | 12/31 | 177 | 138 | 315 | 08/01/2017
HAWAII | KEKAHA PACIFIC MISSILE RANGE FAC | 01/01 | 12/31 | 325 | 135 | 460 | 04/01/2016
HAWAII | KILAUEA MILITARY CAMP | 01/01 | 12/31 | 199 | 117 | 316 | 08/01/2017
HAWAII | LANAI | 01/01 | 12/31 | 254 | 111 | 365 | 08/01/2017
HAWAII | LIHUE | 01/01 | 12/31 | 325 | 135 | 460 | 04/01/2016
HAWAII | LUALUALEI NAVAL MAGAZINE | 01/01 | 12/31 | 177 | 138 | 315 | 08/01/2017
HAWAII | MCB HAWAII | 01/01 | 12/31 | 177 | 138 | 315 | 08/01/2017
HAWAII | MOLOKAI | 01/01 | 12/31 | 176 | 115 | 291 | 08/01/2017
HAWAII | NOSC PEARL HARBOR | 01/01 | 12/31 | 177 | 138 | 315 | 08/01/2017
HAWAII | PEARL HARBOR | 01/01 | 12/31 | 177 | 138 | 315 | 08/01/2017
HAWAII | PMRF BARKING SANDS | 01/01 | 12/31 | 325 | 135 | 460 | 10/01/2016
HAWAII | SCHOFIELD BARRACKS | 01/01 | 12/31 | 177 | 138 | 315 | 08/01/2017
HAWAII | TRIPLER ARMY MEDICAL CENTER | 01/01 | 12/31 | 177 | 138 | 315 | 08/01/2017
HAWAII | WAHIAWA NCTAMS PAC | 01/01 | 12/31 | 177 | 138 | 315 | 08/01/2017
HAWAII | WHEELER ARMY AIRFIELD | 01/01 | 12/31 | 177 | 138 | 315 | 08/01/2017
MIDWAY ISLANDS | MIDWAY ISLANDS | 01/01 | 12/31 | 125 | 81 | 206 | 08/01/2017
NORTHERN MARIANA ISLANDS | [OTHER] | 01/01 | 12/31 | 69 | 84 | 153 | 08/01/2017
NORTHERN MARIANA ISLANDS | ROTA | 01/01 | 12/31 | 130 | 107 | 237 | 07/01/2015
NORTHERN MARIANA ISLANDS | SAIPAN | 01/01 | 12/31 | 161 | 101 | 262 | 08/01/2017
NORTHERN MARIANA ISLANDS | TINIAN | 01/01 | 12/31 | 69 | 84 | 153 | 08/01/2017
PUERTO RICO | [OTHER] | 01/01 | 12/31 | 109 | 112 | 221 | 06/01/2012
PUERTO RICO | AGUADILLA | 01/01 | 12/31 | 171 | 84 | 255 | 11/01/2015
PUERTO RICO | BAYAMON | 12/01 | 05/31 | 195 | 88 | 283 | 12/01/2015
PUERTO RICO | BAYAMON | 06/01 | 11/30 | 167 | 88 | 255 | 12/01/2015
PUERTO RICO | CAROLINA | 12/01 | 05/31 | 195 | 88 | 283 | 12/01/2015
PUERTO RICO | CAROLINA | 06/01 | 11/30 | 167 | 88 | 255 | 12/01/2015
PUERTO RICO | CEIBA | 01/01 | 12/31 | 139 | 92 | 231 | 10/01/2012
PUERTO RICO | CULEBRA | 01/01 | 12/31 | 150 | 98 | 248 | 03/01/2012
PUERTO RICO | FAJARDO [INCL ROOSEVELT RDS NAVSTAT] | 01/01 | 12/31 | 139 | 92 | 231 | 10/01/2012
PUERTO RICO | FT. BUCHANAN [INCL GSA SVC CTR, GUAYNABO] | 12/01 | 05/31 | 195 | 88 | 283 | 12/01/2015
PUERTO RICO | FT. BUCHANAN [INCL GSA SVC CTR, GUAYNABO] | 06/01 | 11/30 | 167 | 88 | 255 | 12/01/2015
PUERTO RICO | HUMACAO | 01/01 | 12/31 | 139 | 92 | 231 | 10/01/2012
PUERTO RICO | LUIS MUNOZ MARIN IAP AGS | 12/01 | 05/31 | 195 | 88 | 283 | 12/01/2015
PUERTO RICO | LUIS MUNOZ MARIN IAP AGS | 06/01 | 11/30 | 167 | 88 | 255 | 12/01/2015
PUERTO RICO | LUQUILLO | 01/01 | 12/31 | 139 | 92 | 231 | 10/01/2012
PUERTO RICO | MAYAGUEZ | 01/01 | 12/31 | 109 | 112 | 221 | 09/01/2010
PUERTO RICO | PONCE | 01/01 | 12/31 | 149 | 89 | 238 | 09/01/2012
PUERTO RICO | RIO GRANDE | 01/01 | 12/31 | 169 | 123 | 292 | 06/01/2012
PUERTO RICO | SABANA SECA [INCL ALL MILITARY] | 12/01 | 05/31 | 195 | 88 | 283 | 12/01/2015
PUERTO RICO | SABANA SECA [INCL ALL MILITARY] | 06/01 | 11/30 | 167 | 88 | 255 | 12/01/2015
PUERTO RICO | SAN JUAN & NAV RES STA | 06/01 | 11/30 | 167 | 88 | 255 | 12/01/2015
PUERTO RICO | SAN JUAN & NAV RES STA | 12/01 | 05/31 | 195 | 88 | 283 | 12/01/2015
PUERTO RICO | VIEQUES | 01/01 | 12/31 | 175 | 95 | 270 | 03/01/2012
VIRGIN ISLANDS (U.S.) | ST. CROIX | 12/15 | 04/14 | 299 | 116 | 415 | 06/01/2015
VIRGIN ISLANDS (U.S.) | ST. CROIX | 04/15 | 12/14 | 247 | 110 | 357 | 06/01/2015
VIRGIN ISLANDS (U.S.) | ST. JOHN | 12/04 | 04/30 | 230 | 113 | 343 | 08/01/2015
VIRGIN ISLANDS (U.S.) | ST. JOHN | 05/01 | 12/03 | 170 | 107 | 277 | 08/01/2015
VIRGIN ISLANDS (U.S.) | ST. THOMAS | 04/15 | 12/15 | 249 | 110 | 359 | 03/01/2017
VIRGIN ISLANDS (U.S.) | ST. THOMAS | 12/16 | 04/14 | 339 | 110 | 449 | 03/01/2017
WAKE ISLAND | WAKE ISLAND | 01/01 | 12/31 | 129 | 70 | 199 | 07/01/2016
* Where meals are included in the lodging rate, a traveler is only allowed a meal rate on the first and last day of travel.

[FR Doc. 2019-10731 Filed 5-21-19; 8:45 am]

BILLING CODE 5001-06-P